SECURITIES AND EXCHANGE COMMISSION

Sunshine Act Meeting

Federal Register Citation of Previous Announcement: [70 FR 72318, December 2, 2005].

Status: Closed meeting.

Place: 100 F Street, NE., Washington, DC.

Announcement of Additional Meeting: Additional meeting.

An additional closed meeting has been scheduled for Tuesday, December 13, 2005 at 11:45 a.m.

Commissioners and certain staff members who have an interest in the matter will attend the closed meeting.

The General Counsel of the Commission, or his designee, has certified that, in his opinion, one or more of the exemptions set forth in 5 U.S.C. 552b(c)(5), (7), (9)(B) and (10) and 17 CFR 200.402(a)(5), (7), 9(ii) and (10) permit consideration of the scheduled matter at the closed meeting.

Commissioner Campos, as duty officer, voted to consider the item listed for the closed meeting in closed session and that no earlier notice thereof was possible.

The subject matter of the closed meeting scheduled for Tuesday, December 13, 2005 will be: Institution and settlement of injunctive actions.

At times, changes in Commission priorities require alterations in the scheduling of meeting items. For further information and to ascertain what, if any, matters have been added, deleted or postponed, please contact:

The Office of the Secretary at (202) 551-5400.
Dated: December 12, 2005.
Jonathan G. Katz,
Secretary.

[FR Doc. 05-24134 Filed 12-13-05; 11:09 am]

BILLING CODE 8010-01-P